FEDERAL COMMUNICATIONS COMMISSION

47 CFR Parts 90

[PR Docket No. 92-235, FCC 00-439]

Replacement of Part 90 by Part 88 to Revise the Private Land Mobile Radio Services and Modify the Policies Governing Them and Examination of Exclusivity and Frequency Assignment Policies of the Private Land Mobile Services

AGENCY: Federal Communications Commission.

ACTION: Final rule; announcement of effective date.

SUMMARY: This document is to show rules amended by the Commission when it reconsidered it's Second Memorandum Opinion and Order which established revised rules for frequency coordination in the Private Land Mobile Radio Service, shall become effective July 31, 2001. These sections, which contained new information collection requirements, were published in the Federal Register February 5, 2001, (OMB No. 3060-0984). This is to let the public know the effective date of the rules that contain new information collection requirements.

EFFECTIVE DATE: The amendments to 47 CFR Part 90, 47 CFR 90.35(b)(2)(iii) and 90.175(b)(1) published at 66 FR 8899 (February 5, 2001) are effective July 31, 2001.

FOR FURTHER INFORMATION CONTACT: Jim Shaffer, Public Safety and Private Wireless Division, Wireless Telecommunications Bureau, (202) 418-0680.

SUPPLEMENTARY INFORMATION: On December 14, 2000, the Commission adopted a Fifth Memorandum Opinion and Order (“Fifth MO&O”) (FCC 00-439) to address seven petitions for reconsideration and one comment, all directed to the rules established by the Commission's Second Report and Order (Second R&O) in this proceeding, a summary of the Fifth MO&O was published in the Federal Register. See 66 FR 8899 (February 5, 2001). We stated that the Part 90 of the Commission's rules, 47 CFR Part 90, is amended effective March 7, 2001, except for §§ 90.35(b)(2)(iii) and 90.175(b)(1) which contains information collections that are not effective until approved by the Office of Management and Budget. We also stated that the Commission will publish a document in the Federal Register announcing the effective date for those sections. This statement requires further action by the Commission to establish the effective date, notwithstanding the preceding statement in the summary that the rule change would become effective upon OMB approval. In order to resolve this matter in a manner that most appropriately provides interested parties with proper notice, the rule changes adopted in the Order shall become effective July 31, 2001. The information collection was approved by OMB on July 13, 2001. See OMB No. 3060-0984.

List of Subjects in 47 CFR Part 90

Communications equipment, Radio, Reporting and recordkeeping requirements.

Federal Communications Commission.
William F. Caton,
Deputy Secretary.

[FR Doc. 01-19067 Filed 7-30-01; 8:45 am]

BILLING CODE 6712-01-P